DEPARTMENT OF JUSTICE

Notice of Lodging of Consent Decree Under the Resource Conservation and Recovery Act (“RCRA”)

Consistent with Departmental policy, 28 CFR 50.7, notice is hereby given that on December 20, 2001, a proposed Consent Decree in United States et al. v. Precision Fabricating and Cleaning Co. Inc., Civil Action No. 6:99-CF-1529-ORL-22DAB was lodged with the United States District Court for the Middle District of Florida.

In this action the United States sought injunctive relief and penalties against Precision Fabricating and Cleaning Co., Inc. (“PFC”) pursuant to the Solid Waste Disposal Act, as amended by the Resource Conservation and Recovery Act (“RCRA”) section 7003, 42 U.S.C. 6973; and the Safe Drinking Water Act (“SDWA”) section 1431, 42 U.S.C. 300i. The United States sought to enjoin PFC to comply with an Administrative Order issued by EPA on September 30, 1996, in order to abate an imminent and substantial endangerment to public health, welfare, and the environment connected with the contamination of soil and groundwater at PFC's Facility at 3975 East Railroad Avenue, Sharpes, Brevard County, Florida. The United States also sought civil penalties for Defendant's violations of the Administrative Order pursuant to section 7003(b) of RCRA, 42 U.S.C. 6973(b), and section 1431 of the SDWA, 42 U.S.C. 300i.

The Complaint was amended to include claims by the State of Florida which sought to enjoin Defendant to comply with Consent Orders OGC No. 89-0257 (dated September 8, 1989) and No. 91-0825 (dated December 12, 1991) and to comply with Postclosure permit No. HF05-214090 (dated May 20, 1999).

The proposed Consent Decree, which settles the liability of PFC, for violations alleged in the Amended Complaint, provides that PFC will perform the environmental remedy at the Site estimated to cost $1.1 to $1.4 million, as set forth in the Remedial Measures Plan incorporated by reference in and attached to the Decree. Under the Decree, PFC will also pay to the United States a penalty of $75,000.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. Precision Fabricating and Cleaning Co., D.J. Ref. 90-7-1-891.

The proposed Consent Decree may be examined at the Office of the United States Attorney, 400 North Tampa Street, Suite 3200, Tampa, Florida 33602, and at the U.S. EPA Region IV, 61 Forsyth Street, Atlanta, Georgia 30303. A copy of the proposed Consent Decree may also be obtained by mail from the Consent Decree Library, P.O. Box 7611, U.S. Department of Justice, Washington, DC 20044-7611. In requesting a copy, please enclose a check in the amount of $52.00 (25 cents per page reproduction cost) payable to the Consent Decree Library. In requesting a copy exclusive of exhibits, please enclose a check in the amount of $16.75 payable to the Consent Decree Library.

Walker B. Smith,
Deputy Chief, Environmental Enforcement Section, Environment and Natural Resources Division.

[FR Doc. 02-365 Filed 1-7-02; 8:45 am]

BILLING CODE 4410-15-M